DEPARTMENT OF TRANSPORTATION

Federal Aviation Administration

14 CFR Part 71

[Docket FAA 2004-19084; Airspace Docket 04-ANM-08]

Establishment of Class E Airspace, Mariposa, CA

AGENCY: Federal Aviation Administration (FAA), DOT.

ACTION: Final rule.

SUMMARY: This final rule will establish Class E airspace at Mariposa, CA. New Area Navigation (RNAV) Global Positioning System (GPS) Standard Instrument Approach Procedures (SIAPs) have been developed at Mariposa-Yosemite Airport. Additional Class E airspace extending upward from 700 feet above the surface is necessary for the safety of instrument flight rules (IFR) aircraft executing these new SIAPs and transitioning between the terminal and en route environment. This action also corrects a small error in the airport latitude and longitude description.

DATES: 0901 UTC August 04, 2005.

FOR FURTHER INFORMATION CONTACT: Ed Haeseker, Federal Aviation Administration, Air Traffic Organization, Western En Route and Oceanic Area Office, Airspace Branch, 1601 Lind Avenue SW., Renton, WA. 98055-4056; telephone (425) 227-2527.

SUPPLEMENTARY INFORMATION:

History

On November 23, 2004, the FAA published in the Federal Register a notice of proposed rule making to establish Class E airspace at Mariposa, CA (69 FR 68104). New RNAV GPS SIAPs at Mariposa-Yosemite Airport, Mariposa, CA, makes it necessary to increase the controlled airspace. Interested parties were invited to participate in this rulemaking proceeding by submitting written comments on the proposal to the FAA. No comments were received. Class E airspace designations are published in paragraph 6005 FAA Order 7400.9M dated August 30, 2004, and effective September 16, 2004, which is incorporated by reference in 14 CFR part 71.1. The Class E airspace designations listed in this document will be published subsequently in that order.

The Rule

This amendment to 14 CFR part 71 establishes Class E airspace at Mariposa-Yosemite Airport, Mariposa, CA. New RNAV GPS SIAPs at Mariposa-Yosemite Airport make it necessary to establish the Class E Airspace. This controlled airspace extending upward from 700 feet or more above the surface is necessary for the containment and safety of IFR aircraft transitioning to/from the en route environment and executing these RNAV GPS SIAP procedures. The amendment also corrects an error in the airport latitude and longitude description.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; ROUTES; AND REPORTING POINTS

1. The authority citation for 14 CFR part 71 continues to read as follows:

Authority: 49 U.S.C. 106(g), 40103, 40113, 40120; E.O. 10854; 24 FR 9565, 3 CFR, 1959-1963 Comp., p. 389.

§ 71.1 [Amended]

2. The incorporation by reference in 14 CFR part 71.1 of the Federal Aviation Administration Order 7400.9M, Airspace Designations and Reporting Points, dated August 30, 2004, and effective September 16, 2004, is amended as follows.

Paragraph 6005. Class E Airspace are extending upward from 700 feet or more above the surface of the earth.

* * * * *

ANM CA E5 Mariposa, CA [NEW]

Mariposa-Yosemite Airport

(Lat. 37°30′39.1″ N, long. 120°02′22.3″ W)

That airspace extending upward from 700 feet above the surface within a 6.5 mile radius of the Mariposa-Yosemite Airport.

* * * * *

Issued in Seattle, Washington on July 1, 2005.
Danial T. Mawhorter,
Acting Area Director, Western En Route and Oceanic Operations.

[FR Doc. 05-13660 Filed 7-11-05; 8:45 am]

BILLING CODE 4910-13-M